DEPARTMENT OF COMMERCE

International Trade Administration

[A-570-836]

Glycine From the People's Republic of China: Notice of Rescission of Antidumping Duty Administrative Review

AGENCY: Import Administration, International Trade Administration, Department of Commerce.

SUMMARY: On April 27, 2010, the U.S. Department of Commerce (the Department) published a notice of initiation of an administrative review of the antidumping duty order on glycine from the People's Republic of China (PRC). The review covers 32 producers/exporters of glycine from the PRC. We are now rescinding this administrative review in full.

DATES: Effective Date: October 15, 2010.

FOR FURTHER INFORMATION CONTACT: Dena Crossland or Brian Davis, AD/CVD Operations, Office 7, Import Administration, International Trade Administration, U.S. Department of Commerce, 14th Street and Constitution Avenue, NW., Washington, DC 20230; telephone: (202) 482-3362 or (202) 482-7924, respectively.

SUPPLEMENTARY INFORMATION:

Background

On March 1, 2010, the Department published in the Federal Register the notice of opportunity to request an administrative review of the antidumping duty order on, inter alia, glycine from the PRC for the period March 1, 2009, through February 28, 2010. See Antidumping or Countervailing Duty Order, Finding, or Suspended Investigation; Opportunity To Request Administrative Review, 75 FR 9162 (March 1, 2010). On March 31, 2010, the Department received a timely request from GEO Specialty Chemicals, Inc. (GEO), a domestic producer of glycine, that the Department conduct an administrative review of the antidumping duty order on glycine from the PRC, covering 32 producers/exporters of glycine from the PRC. On April 27, 2010, the Department published in the Federal Register the notice of initiation of, inter alia, the 2009-2010 administrative review of glycine from the PRC. See Initiation of Antidumping and Countervailing Duty Administrative Reviews and Request for Revocation in Part, 75 FR 22107 (April 27, 2010) (Initiation).

On April 30, 2010, GEO submitted comments regarding the Department's respondent selection process. On May 10, 2010, we received a letter from Paras Intermediates Private Limited (Paras) informing the Department that it is an Indian company that had no exports, sales, or entries of PRC glycine to the United States during the POR.¹ On May 20, 2010, the Department issued a memorandum providing an opportunity for interested parties to comment on United States Customs and Border Protection (CBP) information to be used by the Department in respondent selection. On May 24, 2010, Baoding Mantong Fine Chemistry Co., Ltd. (Baoding Mantong) ² submitted a letter and certification to the Department advising the Department that Baoding Mantong “did not sell, ship, or export to the United States glycine subject to the above referenced antidumping duty order during the POR.” On May 26, 2010, the Department issued a letter to Baoding Mantong requesting that it refile its statement of no shipments and to certify, if appropriate, that it had no exports, sales, or entries of subject merchandise during the POR.³ On May 28, 2010, we received a properly filed letter from Baoding Mantong stating that it did not sell, ship, or export, to the United States, subject merchandise during the POR. On July 30, 2010, GEO filed a letter withdrawing its request for review of the 32 companies for which the Department initiated this review.

¹ Paras is one of the 32 companies named by GEO in its March 31, 2010, letter to the Department. In its March 31, 2010, letter to the Department, Paras also stated that all of Paras' exports of glycine to the United States are manufactured by Paras, in India, from monochloro acetic acid and ammonia.

² Baoding Mantong is also one of the 32 companies named by GEO in its March 31, 2010, letter to the Department.

³ The Department notes that the Initiation Notice states “{u}nder 19 CFR 351.213(d)(3), the Department may rescind a review where there are no exports, sales, or entries of subject merchandise during the respective period of review (`POR') listed below. If a producer or exporter named in this initiation notice had no exports, sales, or entries during the POR, it should notify the Department within 30 days of publication of this notice in the Federal Register. The Department will consider rescinding the review only if the producer or exporter, as appropriate, submits a properly filed and timely statement certifying that it had no exports, sales, or entries of subject merchandise during the POR.” See 75 FR at 22107 (emphasis added). The Department found that Baoding Mantong did not properly file its statement that it had no exports, sales, or entries of subject merchandise during the POR in its original certification (May, 24, 2010, letter to the Department).

Period of Review

The period of review (POR) is March 1, 2009, through February 28, 2010.

Scope of the Order

The product covered by the order is glycine, which is a free-flowing crystalline material, like salt or sugar. Glycine is produced at varying levels of purity and is used as a sweetener/taste enhancer, a buffering agent, reabsorbable amino acid, chemical intermediate, and a metal complexing agent. This review covers glycine of all purity levels. Glycine is currently classified under subheading 2922.49.4020 of the Harmonized Tariff Schedule of the United States (HTSUS). Although the HTSUS subheading is provided for convenience and Customs purposes, the written description of the merchandise subject to the order is dispositive.

Rescission of Antidumping Duty Administrative Review

Pursuant to 19 CFR 351.213(d)(1), the Secretary will rescind an administrative review under this section, in whole or in part, if a party that requested a review withdraws the request within 90 days of the date of publication of notice of initiation of the requested review, or withdraws at a later date if the Department determines it is reasonable to extend the time limit for withdrawing the request. GEO withdrew its review request after the 90-day deadline. However, the Department finds it reasonable to extend the withdrawal deadline for GEO because the Department has not yet devoted significant time or resources to this review. As a result, in accordance with 19 CFR 351.213(d)(1), the Department is rescinding the administrative review of all 32 companies.

Assessment Instructions

The Department will instruct CBP to assess antidumping duties on all appropriate entries. For companies for which this review is rescinded, antidumping duties shall be assessed at rates equal to the cash deposit of estimated antidumping duties required at the time of entry, or withdrawal from warehouse, for consumption, in accordance with 19 CFR 351.212(c)(1)(i). The Department intends to issue appropriate assessment instructions directly to CBP 15 days after publication of this notice.

Notification to Importers

This notice serves as a reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notification Regarding Administrative Protective Orders

This notice serves as a reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

We are issuing and publishing this notice in accordance with sections 751(a)(1) and 777(i)(1) of the Tariff Act of 1930, as amended, and 19 CFR 351.213(d)(4).

Dated: October 7, 2010.
Susan H. Kuhbach,
Acting Deputy Assistant Secretary for Antidumping and Countervailing Duty Operations.

[FR Doc. 2010-26087 Filed 10-14-10; 8:45 am]

BILLING CODE 3510-DS-P